GENERAL SERVICES ADMINISTRATION

[Docket FTR-2006-006; Sequence 5]

Seventh National Federal Fleet Management Workshop and Information Fair, Including Aviation and Motor Vehicle Workshops (FedFleet 2007)

AGENCY: Office of Governmentwide Policy, General Services Administration (GSA).

ACTION: Notice.

SUMMARY: The General Services Administration (GSA) is announcing that it will hold its Seventh National Federal Fleet Management Workshop and Information Fair (including Aviation and Motor Vehicle workshops) (FedFleet 2007). FedFleet 2007: Performance Measurement/Navigating Success will take place July 24-26 at Rosen Shingle Creek in Orlando, Florida. FedFleet 2007 offers three days of valuable educational opportunities, with sessions being facilitated by fleet and aviation experts as well as invited professional speakers, various networking opportunities, and a first-class exhibit hall. In addition, a Basic Fleet class, optional but included in the registration fee, will be held on Sunday, July 22. A 24-hour ICAP Aircraft Safety Officer’s (ASO) training course will begin on Monday, July 23. To attend, exhibit, or hold an agency-wide meeting, visit the FedFleet 2007 web site at www.fedfleet.org.

FOR FURTHER INFORMATION CONTACT: Michael Hopkins, Office of Governmentwide Policy, at (202) 208-4421, or by e-mail to Michael.Hopkins@gsa.gov.

Dated: November 1, 2006.
Janet C. Dobbs,
Director of Aviation Policy, Acting Director of Motor Vehicle Fleet.

[FR Doc. E6-18872 Filed 11-7-06; 8:45 am]

BILLING CODE 6820-24-S